DEPARTMENT OF COMMERCE

National Oceanic and Atmospheric Administration

Agency Information Collection Activities; Submission to the Office of Management and Budget (OMB) for Review and Approval; Comment Request; Northeast Region Dealer Purchase Reports

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before January 2, 2024.

ADDRESSES: Interested persons are invited to submit written comments to Adrienne Thomas, NOAA PRA Officer, at Adrienne.thomas@noaa.gov. Please reference OMB Control Number 0648-0229 in the subject line of your comments. Do not submit Confidential Business Information or otherwise sensitive or protected information.

FOR FURTHER INFORMATION CONTACT: Requests for additional information or specific questions related to collection activities should be directed to David Ulmer, Fishery Reporting Specialist, Greater Atlantic Regional Fisheries Office, 55 Great Republic Drive, Gloucester, MA 01930, (757-563-3621/978-559-1552), David.Ulmer@noaa.gov.

SUPPLEMENTARY INFORMATION:

I. Abstract

This is a request to extend a currently approved information collection.

The National Oceanic and Atmospheric Administration's National Marine Fisheries Service (NMFS) is responsible for the stewardship of the Nation's living marine resources and their habitats within the United States Exclusive Economic Zone (EEZ). The mandates and authorities are derived from numerous statutes, most significantly the Magnuson-Stevens Fishery Conservation and Management Act (MSA), the Endangered Species Act (ESA), and the Marine Mammal Protection Act (MMPA).

Under the MSA, the Secretary of Commerce has the responsibility for conservation and management of the nation's marine fishery resources. Much of this responsibility has been delegated to NMFS. In an effort to achieve the goals of the MSA, several fisheries are now being managed by harvest limits including quotas, annual target total allowable catches (TAC) and domestic annual harvest (DAH) limits. These fisheries often have short fishing seasons and require in-season management measures, such as closures and trip limits, to ensure that harvest levels established in each Fishery Management Plan (FMP) are not exceeded. Therefore, as more fisheries are being managed by harvest limits, the timely collection of data from dealers and vessel owners and operators is and will continue to be a necessary component of most management regimes, as evidenced in several FMPs.

All federal permitted dealers of Atlantic mackerel, squid, butterfish, Atlantic sea scallop, Atlantic surfclam, ocean quahog, Northeast (NE) multispecies, monkfish, summer flounder, scup, black sea bass, Atlantic bluefish, spiny dogfish, Atlantic herring, skates, tilefish, hagfish, American lobster must have been issued and have in their possession a federal dealer permit in order to purchase such species from fishing vessels. Federal permitted dealers in the above fisheries are required to submit certain information regarding their fish purchases to NMFS. Trip-level (trip by trip) reports provide the comprehensive data that are necessary for successful long-term management of each fishery.

In all fisheries requiring mandatory reporting, 'negative reporting' by dealers is required if no fish was purchased during the reporting period. Negative reports are necessary in order to accurately identify dealers who have not purchased fish as opposed to those who have failed to report their purchases

All large vessel at-sea processors of Atlantic mackerel that have been issued and have in their possession a federal at-sea processor permit may purchase mackerel from fishing vessels at sea for processing provided the large vessel did not harvest the mackerel. These Federal permitted vessels are also required to submit certain information regarding their fish purchases to NMFS.

The information collected is used by several offices of NMFS, the Northeast Fishery Management Council, the Mid-Atlantic Fishery Management Council, and the Atlantic States Marine Fisheries Commission (ASMFC) to monitor quota-managed species, ensuring that conservation and management actions may be taken in a timely manner. Accurate and timely landings reports are especially important for monitoring commercial landings by species and evaluating the effectiveness of each FMP in achieving its fishing mortality targets.

In addition to the uses specifically relating to management of individual species, the statistics collected through these reports will be incorporated into the NMFS databases which are used in many analyses by various offices of NMFS, the Regional Fishery Management Councils, the United States Coast Guard (USCG), state fishery enforcement agencies, the Departments of State and Commerce, Office of Management and Budget (OMB), the Corps of Engineers, Congressional staffs, the fishing industry, and the public. The data also serve as inputs to a variety of uses such as biological analyses and stock assessments, and in support of Executive Order (E.O.) 12866 “Regulatory Planning and Review”, quota and allocation selections and monitoring, economic profitability profiles, trade and import tariff decisions, allocation of grant funds among states, and identification of ecological interactions among species. Data used are also utilized for monitoring and evaluating ESA and MMPA actions.

II. Method of Collection

Dealers submit purchase information through an electronic process by one of the following: the web-based system as administered by the Atlantic Coast Cooperative Statistics Program, a computer-based trip ticket program approved by the NMFS or through a NMFS approved proprietary mechanism.

III. Data

OMB Control Number: 0648-0229.

Form Number(s): None.

Type of Review: Regular submission, extension of a current information collection.

Affected Public: Individuals or households; Business or other for-profit organizations; Not-for-profit institutions; State, Local, or Tribal government; Federal government.

Estimated Number of Respondents: 878.

Estimated Time per Response: 4 minutes per trip.

Estimated Total Annual Burden Hours: 28,390

Estimated Total Annual Cost to Public: 536,003.

Respondent's Obligation: Mandatory.

Legal Authority: Magnuson-Stevens Fishery Conservation and Management Act, Code of Federal Regulations Title 50 Part 648.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-24378 Filed 11-2-23; 8:45 am]

BILLING CODE 3510-22-P